DEPARTMENT OF ENERGY

Federal Energy Regulatory Commission

Notice of Intent To File License Application, Filing of Pre-Application Document, and Approving Use of the Traditional Licensing Process Procedures

March 16, 2009.

FFP Project 3, LLC | Project No. 12856-001.
FFP Project 4, LLC | Project No. 12849-001.
FFP Project 5, LLC | Project No. 12862-001.
FFP Project 6, LLC | Project No. 12848-001.
FFP Project 7, LLC | Project No. 12851-001.
Free Flow Power Corporation | Project No. 12833-001.
FFP Project 10, LLC | Project No. 12866-001.
FFP Project 11, LLC | Project No. 12855-001.
FFP Project 12, LLC | Project No. 12853-001.
FFP Project 13, LLC | Project No. 12854-001.
FFP Project 14, LLC | Project No. 12845-001.
FFP Project 15, LLC | Project No. 12864-001.
FFP Project 16, LLC | Project No. 12858-001.
FFP Project 17, LLC | Project No. 12865-001.
FFP Project 18, LLC | Project No. 12857-001.
FFP Project 19, LLC | Project No. 12842-001.
FFP Project 20, LLC | Project No. 12869-001.
FFP Project 21, LLC | Project No. 12863-001.
FFP Project 22, LLC | Project No. 12860-001.
FFP Project 23, LLC | Project No. 12843-001.
FFP Project 24, LLC | Project No. 12844-001.
Free Flow Power Corporation | Project No. 12828-001.
Free Flow Power Corporation | Project No. 12822-001.
Free Flow Power Corporation | Project No. 12817-001.
FFP Project 29, LLC | Project No. 12918-001.
FFP Project 30, LLC | Project No. 12927-001.
FFP Project 37, LLC | Project No. 12928-001.
FFP Project 38, LLC | Project No. 12926-001.
FFP Project 39, LLC | Project No. 12925-001.
FFP Project 40, LLC | Project No. 12929-001.
FFP Project 43, LLC | Project No. 12931-001.
FFP Project 44, LLC | Project No. 12942-001.
FFP Project 45, LLC | Project No. 12937-001.
FFP Project 46, LLC | Project No. 12936-001.
FFP Project 47, LLC | Project No. 12932-001.
FFP Project 48, LLC | Project No. 12934-001.
FFP Project 49, LLC | Project No. 12933-001.
FFP Project 50, LLC | Project No. 12941-001.
FFP Project 51, LLC | Project No. 12940-001.
FFP Project 52, LLC | Project No. 12939-001.
FFP Project 53, LLC | Project No. 12914-001.
FFP Project 55, LLC | Project No. 12917-001.
FFP Project 58, LLC | Project No. 12913-001.
FFP Project 59, LLC | Project No. 12916-001.

a. Type of Filing: Notice of Intent To File License Application and Request To Use the Traditional Licensing Process (TLP).

b. Project Nos.: P-12856, P-12849, P-12862, P-12848, P-12851, P-12833, P-12866, P-12855, P-12853, P-12854, P-12845, P-12864, P-12858, P-12865, P-12857, P-12842, P-12869, P-12863, P-12860, P-12843, P-12844, P-12828, P-12822, P-12817, P-12918, P-12927, P-12928, P-12926, P-12925, P-12929, P-12931, P-12942, P-12937, P-12936, P-12932, P-12934, P-12933, P-12941, P-12940, P-12939, P-12914, P-12917, P-12913, and P-12916.

c. Dated Filed: January 15, 2009.

d. Submitted By: Free Flow Power Corporation and the subsidiary limited liability corporations (listed above and collectively referred to below as “Free Flow Power”).

e. Name of Projects: Free Flow Power Mississippi River TLP Projects.

f. Locations: On the Mississippi River, in Arkansas, Illinois, Kentucky, Louisiana, Mississippi, Missouri, and Tennessee. No federal lands are occupied by the project works or located within the project boundary.

g. Filed Pursuant to: 18 CFR 5.3 of the Commission's regulations.

h. Potential Applicant Contact: Ms. Ramya Swaminathan, Vice President, Free Flow Power, 33 Commercial Street, Gloucester, MA 01930, (978) 226-1531, rswaminathan@free-flow-power.com.

i. FERC Contact: Stephen Bowler at (202) 502-6861 or stephen.bowler@ferc.gov and Sarah Florentino at (202) 502-6863 or sarah.florentino@ferc.gov.

j. Free Flow Power filed its request to use the Traditional Licensing Process on January 15, 2009. On March 13, 2009, Free Flow Power filed a supplement to its PAD. In a letter dated March 16, 2009, the Director of the Office of Energy Projects approved Free Flow Power Corporation's request to use the Traditional Licensing Process.

k. With this notice, we are initiating informal consultation with: (a) The U.S. Fish and Wildlife Service under section 7 of the Endangered Species Act and the joint agency regulations thereunder at 50 C.F.R., Part 402; (b) NOAA Fisheries under section 305(b) of the Magnuson-Stevens Fishery Conservation and Management Act and implementing regulations at 50 CFR 600.920; and (c) the State Historic Preservation Officers of Arkansas, Illinois, Kentucky, Louisiana, Mississippi, Missouri, and Tennessee, as required by section 106, National Historical Preservation Act, and the implementing regulations of the Advisory Council on Historic Preservation at 36 CFR 800.2.

l. With this notice, we are designating Free Flow Power Corporation as the Commission's non-federal representative for carrying out informal consultation, pursuant to section 106 of the National Historic Preservation Act.

m. Free Flow Power Corporation filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, of for TTY, (202) 502-8659. A copy is also available for inspection and reproduction at the address in paragraph h.

Register online at http://ferc.gov/esubscribenow.htm to be notified via e-mail of new filing and issuances related to this or other pending projects. For assistance, contact FERC Online Support.

Kimberly D. Bose,
Secretary.

[FR Doc. E9-6282 Filed 3-23-09; 8:45 am]

BILLING CODE